DEPARTMENT OF JUSTICE

Notice of Lodging of Consent Decree; Pursuant to the Resource Conservation and Recovery Act and the Clean Water Act

On October 28, 2013, the Department of Justice lodged a proposed Consent Decree (“Decree”) in the United States District Court for the Eastern District of Kentucky in the lawsuit entitled United States of America v. Calgon Carbon Corporation, Civil Action No. 0:13-cv-00158.

This Decree represents a settlement of claims against the Defendant Calgon Carbon Corporation (“Defendant” or “Calgon”) for violations of Kentucky Revised Statutes (KRS) Title XVIII Chapter 224, Subchapter 46-Hazardous Waste et seq. (Section 3005 of the Resource Conservation and Recovery Act (“RCRA”), 42 U.S.C. 9625), and the Kentucky Hazardous Waste Management Regulations, as authorized, at Title 401 of Kentucky Administrative Regulations (KAR) Chapters 31 through 38 (40 CFR parts 260 through 270), which account for numerous RCRA hazardous waste permit conditions, RCRA interim status conditions, and other RCRA hazardous waste management requirements at Calgon's Big Sandy facility located near Catlettsburg, Kentucky, and at Calgon's Solid Waste Landfill. In addition, the Complaint contains allegations of violations by Calgon of the Clean Water Act (CWA), Sections 301 and 402 of the CWA, 42 U.S.C. SS 1341 and 1311, by not complying with its National Pollutant Discharge Elimination System (NPDES) permit.

Under the proposed Consent Decree, the Defendant will pay a penalty of $1.6 million, to be allocated as $1,374,000 as civil penalty for RCRA violations, and $226,000 for the CWA violations. The Decree provides for stipulated penalties in the event the Defendant fails to comply with the Decree's requirements.

The proposed Consent Decree provides for injunctive relief sought by the United States that EPA believes is necessary to address Calgon's violations and bring the facility into compliance with the law. The injunctive relief that Calgon must perform is set forth in Section V. (Compliance Requirements) of the Consent Decree. Calgon has already submitted a Lagoon Solids Stockpile Sampling Quality Assurance Project Plan (QAPP) and Lagoon Solids Stockpile Sampling Work Plan to address sampling and testing of the Phase II Lagoon Solids Stockpile. EPA has already approved this Work Plan and QAPP, which are attached as an appendix to the Consent Decree. Calgon is required to begin to implement its Work Plan within thirty days of the Effective Date of the Consent Decree, which is the date the Decree is entered by the Court.

Within ninety days from the Effective Date of the Decree, Calgon is required to submit a site specific QAPP and Work Plan to address the sampling and testing of groundwater at Calgon's Residual Solid Waste Landfill. Upon acceptance of the Plan by the Environmental Protection Agency (EPA), Calgon is required to begin to implement the Work within fifteen days.

Calgon must further conduct Corrective Action in accordance with its State-issued RCRA permit and any other applicable Commonwealth rules and regulations for solid waste management units (SWMUs) and areas of contamination (AOCs). The specific Corrective Action conditions are delegated to the Commonwealth, and will be determined after the assessment work is done pursuant to the Consent Decree.

The publication of this notice opens a period for public comment on the Consent Decree. Comments should be addressed to the Assistant Attorney General, Environment and Natural Resources Division, and should refer to United States v. Calgon Carbon Corporation, Civil Action No. 0:13-cv-00158, D. J. Ref. No. 90-7-1-09536. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $18.00 (25 cents per page reproduction cost) payable to the United States Treasury for the Consent Decree and Exhibits thereto.

Henry S. Friedman,
Assistant Section Chief, Environmental Enforcement Section, Environment and Natural Resources Division.

[FR Doc. 2013-27035 Filed 11-12-13; 8:45 am]

BILLING CODE 4410-15-P